LEGAL SERVICES CORPORATION

Sunshine Act Meeting; Sunshine Act Meeting of the Board of Directors Finance Committee.

TIME AND DATE: The Finance Committee of the Legal Services Corporation Board of Directors will meet on January 26, 2001. The meeting will begin at 3:15 p.m. and continue until the Committee concludes its agenda.

LOCATION: Embassy Suites Hotel, 300 Tallapoosa Street, Montgomery, AL.

STATUS OF MEETING: Open.

MATTERS TO BE CONSIDERED: 1. Approval of agenda.

2. Consider and act on staff recommendation to change LSC's pension provider.

3. Office of the Inspector General's presentation of the Corporation's FY ’00 annual audit.

4. Review and adoption of FY ’01 operating budget for the Corporation.

5. Review of expenses through November 30, 2000.

6. Consider and act on other business.

7. Public comment.

CONTACT PERSON FOR INFORMATION: Victor M. Fortuno, Vice President for Legal Affairs, General Counsel, & Corporate Secretary, at (202) 336-8800.

SPECIAL NEEDS: Upon request, meeting notices will be made available in alternate formats to accommodate visual and hearing impairments. Individuals who have a disability and need an accommodation to attend the meeting may notify Elizabeth S-S Cushing, at (202) 336-8800.

Dated: January 18, 2001.
Victor M. Fortuno,
Vice President for Legal Affairs, General Counsel, & Corporate Secretary.

[FR Doc. 01-2004 Filed 1-18-01; 2:50 pm]

BILLING CODE 7050-01-P